FEDERAL RETIREMENT THRIFT INVESTMENT BOARD

Sunshine Act; Notice of Board Member Meeting

Agenda

Federal Retirement Thrift Investment Board Meeting Agenda, February 26, 2018, In Person, 8:30 a.m.

Open Session

1. Approval of the minutes for the January 22, 2018 Board Meeting

2. Monthly Reports

(a) Participant Activity

(b) Investment Performance

(c) Legislative

3. Quarterly Reports

(d) Metrics

(e) Project Activity

4. Contact Centers

5. OERM Annual Report

6. OTS Annual Report

7. FISMA

8. FISMA—OTS

9. Blended Retirement Update

Closed Session

Information covered under 5 U.S.C. 552b(c)(9)(B).

Adjourn

CONTACT PERSON FOR MORE INFORMATION: Kimberly Weaver, Director, Office of External Affairs, (202) 942-1640.

Dated: February 15, 2018.
Megan Grumbine,
General Counsel, Federal Retirement Thrift Investment Board.

[FR Doc. 2018-03554 Filed 2-15-18; 4:15 pm]

BILLING CODE 6760-01-P